DEPARTMENT OF COMMERCE

National Oceanic and Atmospheric Administration

Submission for OMB Review; Comment Request

The Department of Commerce will submit to the Office of Management and Budget (OMB) for clearance the following proposal for collection of information under the provisions of the Paperwork Reduction Act (44 U.S.C. Chapter 35).

Agency: National Oceanic and Atmospheric Administration (NOAA).

Title: Socio-Economic Survey: Manell-Geus (Guam).

OMB Control Number: 0648-xxxx.

Form Number(s): None.

Type of Request: Regular (request for a new information collection).

Number of Respondents: 380.

Average Hours per Response: Household questionnaire, 1 hour; key informant interviews, 1.5 hours; focus groups, 2 hours.

Burden Hours: 425 (annualized to 142).

Needs and Uses: This request is for a new information collection.

The purpose of this information collection is to obtain information from individuals in Merizo, Guam. Specifically, NOAA is seeking information on the knowledge, attitudes and perceptions of watershed and coral reef conditions, as well as information on knowledge and attitudes related to specific reef protection activities in the Manell-Geus watershed and adjacent waters. In addition, this survey will provide for the ongoing collection of social and economic data related to the communities affected by coral reef conservation programs.

Manell-Geus is one of ten sites in the nation selected as a focus area for NOAA's Habitat Blueprint initiative. Community support and engagement are key elements towards successfully building resilience. We intend to use the information collected through this instrument for research purposes as well as measuring and improving the results of our coral reef protection programs. Because many of our efforts to protect reefs rely on education and changing attitudes toward reef protection, the information collected will allow NOAA staff to ensure programs are designed appropriately at the start, future program evaluation efforts are as successful as possible, and outreach efforts are targeting the intended recipients with useful information.

Affected Public: Individuals or households.

Frequency: Once every three-four years.

Respondent's Obligation: Voluntary.

This information collection request may be viewed at reginfo.gov. Follow the instructions to view Department of Commerce collections currently under review by OMB.

Written comments and recommendations for the proposed information collection should be sent within 30 days of publication of this notice to OIRA_Submission@omb.eop.gov or fax to (202) 395-5806.

Dated: September 23, 2015.
Sarah Brabson,
NOAA PRA Clearance Officer.

[FR Doc. 2015-24526 Filed 9-25-15; 8:45 am]

BILLING CODE 3510-JS-P